OFFICE OF PERSONNEL MANAGEMENT

Excepted Service; January 2018

AGENCY: Office of Personnel Management (OPM).

ACTION: Notice.

SUMMARY: This notice identifies Schedule A, B, and C appointing authorities applicable to a single agency that were established or revoked from January 1, 2018, to January 31, 2018.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

07. Department of the Army (Sch. A, 213.3107)

(j) U.S. Military Academy Preparatory School, West Point, New York—

(1) Positions of Academic Director, Department Head, and Instructor.

Schedule B

No schedule B Authorities to report during January 2018.

Schedule C

The following Schedule C appointing authorities were approved during January 2018.

Agency name | Organization name | Position title | Authorization number | Effective date
DEPARTMENT OF AGRICULTURE | Office of the Secretary | Confidential Assistant | DA180115 | 01/23/2018
| Office of Farm Service Agency | State Executive Director—Arizona | DA180109 | 01/16/2018
|  | State Executive Director (2) | DA180104 | 01/26/2018
|  |  | DA180114 | 01/26/2018
|  | State Executive Director—West Virginia | DA180107 | 01/26/2018
DEPARTMENT OF COMMERCE | Office of Legislative and Intergovernmental Affairs | Associate Director for Oversight | DC180073 | 01/18/2018
CONSUMER PRODUCT SAFETY COMMISSION | Office of Communications | Supervisory Public Affairs Specialist | PS170009 | 01/10/2018
| Office of Commissioners | Special Assistant (Legal) | PS180002 | 01/10/2018
DEPARTMENT OF DEFENSE | Office of the Assistant Secretary of Defense (Special Operations/Low Intensity Conflict) | Special Assistant and Combating Terrorism (2) | DD180028 DD180029 | 01/18/2018 01/23/2018
| Office of the Under Secretary of Defense (Comptroller) | Special Assistant (Comptroller) (3) | DD180042 DD180039 DD180055 | 01/30/2018 01/31/2018 01/31/2018
| Office of the Under Secretary of Defense (Policy) | Special Assistant (Space Policy) Special Assistant (Special Operations and Counterterrorism) | DD180041 DD180043 | 01/30/2018 01/31/2018
DEPARTMENT OF EDUCATION | Office of Elementary and Secondary Education | Confidential Assistant | DB180023 | 01/18/2018
| Office of Special Education and Rehabilitative Services | Confidential Assistant | DB180024 | 01/18/2018
| Office of the Under Secretary | Executive Director | DB180029 | 01/31/2018
DEPARTMENT OF ENERGY | Office of Assistant Secretary for Congressional and Intergovernmental Affairs | Special Assistant Senior Legislative Advisor | DE180007 DE180042 | 01/30/2018 01/30/2018
| Office of Assistant Secretary for Electricity Delivery and Energy Reliability | Senior Advisor for External Affairs | DE180024 | 01/26/2018
| Office of General Counsel | Senior Advisor | DE180046 | 01/31/2018
| Office of Public Affairs | Digital Director | DE180028 | 01/30/2018
| Office of the Secretary | Senior Support Specialist | DE180043 | 01/23/2018
| Office of the Secretary of Energy Advisory Board | Deputy Director, Office of Secretarial Boards and Councils | DE180029 | 01/23/2018
| Office of the Under Secretary | Senior Advisor Scheduler | DE180023 DE180032 | 01/26/2018 01/31/2018
EXPORT IMPORT BANK | Office of the General Counsel | Senior Vice President and General Counsel | EB180004 | 01/31/2018
GENERAL SERVICES ADMINISTRATION | Office of the Heartland Region Office of Federal Acquisition Service | Senior Advisor Confidential Assistant | GS180001 GS180008 | 01/16/2018 01/16/2018
| Office of Regional Administrators | Senior Advisor | GS180015 | 01/29/2018
DEPARTMENT OF HEALTH AND HUMAN SERVICES | Office of the Assistant Secretary for Public Affairs | Director of Speechwriting | DH180033 | 01/08/2018
| Office of the Deputy Secretary | Assistant | DH180038 | 01/16/2018
| Office of the Secretary | Special Assistant | DH180024 | 01/23/2018
DEPARTMENT OF HOMELAND SECURITY | Office of Federal Emergency Management Agency | Confidential Assistant | DM180067 | 01/30/2018
|  | Special Assistant | DM180069 | 01/30/2018
| Office of Assistant Secretary for Legislative Affairs | Director, Legislative Affairs | DM180058 | 01/30/2018
| Office of Partnership and Engagement | Homeland Security Advisory Council and Campaigns Coordinator | DM180050 | 01/31/2018
| Office of the Assistant Secretary for Public Affairs | Digital Director | DM180043 | 01/05/2018
| Office of the Chief of Staff | Deputy Director of Advance | DM180037 | 01/05/2018
|  | Special Assistant | DM180087 | 01/31/2018
| Office of the Executive Secretariat | Briefing Book Coordinator | DM180076 | 01/31/2018
| Office of the Secretary | Advance Representative | DM180052 | 01/30/2018
| Office of the Under Secretary for National Protection and Programs Directorate | Special Assistant Policy Advisor | DM180060 DM180070 | 01/23/2018 01/30/2018
|  | Coordinator of Strategic Communications | DM180068 | 01/31/2018
| Office of United States Citizenship and Immigration Services | Special Assistant Senior Advisor (2) | DM180044 DM180046 DM180055 | 01/30/2018 01/30/2018 01/30/2018
| Office of United States Immigration and Customs Enforcement | Press Assistant Special Assistant | DM180020 DM180047 | 01/05/2018 01/18/2018
DEPARTMENT OF HOUSING AND URBAN DEVELOPMENT | Office of Community Planning and Development | Senior Advisor Special Policy Advisor | DU180035 DU180037 | 01/18/2018 01/31/2018
| Office of Field Policy and Management | Regional Administrator | DU180009 | 01/11/2018
| Office of Public Affairs | Press Secretary | DU180021 | 01/23/2018
| Office of Public and Indian Housing | Special Assistant | DU180020 | 01/19/2018
| Office of the Deputy Secretary | Senior Policy Advisor | DU180022 | 01/16/2018
DEPARTMENT OF THE INTERIOR | Office of United States Fish and Wildlife Service | Advisor | DI180021 | 01/10/2018
| Office of National Park Service | Senior Advisor for Congressional and Legislative Affairs | DI180027 | 01/11/2018
| Secretary's Immediate Office | Special Assistant | DI180006 | 01/26/2018
| Office of Assistant Secretary—Indian Affairs | Senior Advisor | DI180025 | 01/26/2018
| Office of Assistant Secretary—Fish and Wildlife and Parks | Senior Advisor | DI180013 | 01/31/2018
DEPARTMENT OF JUSTICE | Office of Environment and Natural Resources Division | Chief of Staff and Counsel | DJ180032 | 01/02/2018
| Office of Legal Policy | Chief of Staff and Counsel | DJ180037 | 01/02/2018
| Office of the Attorney General | Confidential Assistant | DJ180028 | 01/03/2018
| Office of the Associate Attorney General | Confidential Assistant | DJ180044 | 01/23/2018
| Office of Civil Division | Counsel | DJ180052 | 01/23/2018
| Office of Antitrust Division | Counsel | DJ180049 | 01/31/2018
DEPARTMENT OF LABOR | Office of the Secretary | Director of Scheduling Policy Advisor | DL180029 DL180045 | 01/23/2018 01/31/2018
| Office of Congressional and Intergovernmental Affairs | Legislative Officer | DL180044 | 01/31/2018
| Office of the Assistant Secretary for Administration and Management | Special Assistant | DL180046 | 01/31/2018
| Office of Employment and Training Administration | Senior Policy Advisor | DL180047 | 01/31/2018
NATIONAL MEDIATION BOARD | Office of the Board | Confidential Assistant (2) | NM180001 NM180004 | 01/29/2018 01/29/2018
NATIONAL TRANSPORTATION SAFETY BOARD | Office of Board Members | Communications Liaison | TB180002 | 01/02/2018
SMALL BUSINESS ADMINISTRATION | Office of Administration | White House Liaison Director of Scheduling and External Affairs | SB180013 SB180014 | 01/23/2018 01/31/2018
SOCIAL SECURITY ADMINISTRATION | Office of Retirement and Disability Policy | Senior Advisor | SZ180021 | 01/26/2018
DEPARTMENT OF STATE | Office of the Chief of Protocol | Staff Assistant (Visits) | DS180016 | 01/18/2018
| Office of Policy Planning | Senior Advisor Special Assistant | DS180015 DS180017 | 01/23/2018 01/31/2018
| Office of the Secretary | Special Assistant | DS180020 | 01/31/2018
TRADE AND DEVELOPMENT AGENCY | Office of the Director | Senior Advisor | TD180001 | 01/04/2018
DEPARTMENT OF THE TREASURY | Office of the Executive Secretary | Assistant Executive Secretary (2) | DY180012 DY180013 | 01/02/2018 01/02/2018
| Office of Assistant Secretary (Legislative Affairs) | Senior Advisor | DY180034 | 01/23/2018
| Office of Assistant Secretary (Public Affairs) | Press Assistant | DY180031 | 01/31/2018
| Office of Tax Policy | Senior Advisor | DY180033 | 01/31/2018
DEPARTMENT OF VETERANS AFFAIRS | Office of the Assistant Secretary for Public and Intergovernmental Affairs | Special Advisor Special Assistant/Deputy Press Secretary | DV180012 DV180013 | 01/12/2018 01/12/2018

The following Schedule C appointing authorities were revoked during January 2018.

Agency name | Organization name | Position title | Request No. | Date vacated
DEPARTMENT OF AGRICULTURE | Office of the General Counsel Office of the Secretary | Senior Advisor Confidential Assistant | DA170158 DA170113 | 01/06/2018 01/06/2018
DEPARTMENT OF COMMERCE | Immediate Office | Senior Advisor | DC170056 | 01/05/2018
| Office of White House Liaison | Director, Office of White House Liaison | DC170061 | 01/06/2018
DEPARTMENT OF ENERGY | Office of the Secretary | Executive Support Specialist | DE170114 | 01/23/2018
DEPARTMENT OF HEALTH AND HUMAN SERVICES | Office of Administration for Children and Families | Policy Advisor | DH170306 | 01/05/2018
| Office of the Secretary | Briefing Coordinator | DH170218 | 01/22/2018
| Office of the Centers for Medicare and Medicaid Services | Policy Advisor | DH170320 | 01/23/2018
DEPARTMENT OF JUSTICE | Office of Environment and Natural Resources Division | Counsel | DJ170069 | 01/06/2018
| Office of the Attorney General | Special Assistant | DJ170040 | 01/06/2018
DEPARTMENT OF LABOR | Office of Employment and Training Administration | Senior Policy Advisor | DL170065 | 01/07/2018
DEPARTMENT OF THE INTERIOR | Office of the Solicitor | Counselor | DI170096 | 01/06/2018
DEPARTMENT OF THE TREASURY | Office of Tax Policy | Senior Advisor | DY170126 | 01/27/2018
DEPARTMENT OF VETERANS AFFAIRS | Office of the Assistant Secretary for Public and Intergovernmental Affairs | Special Assistant Special Assistant/Deputy Press Secretary | DV170051 DV170053 | 01/15/2018 01/15/2018
EXPORT-IMPORT BANK | Office of the Chairman | Senior Advisor | EB170019 | 01/06/2018
NATIONAL TRANSPORTATION SAFETY BOARD | Office of Board Members | Confidential Assistant | TB150008 | 01/06/2018
SMALL BUSINESS ADMINISTRATION | Office of Administration | Deputy White House Liaison | SB170048 | 01/20/2018

Authority: 5 U.S.C. 3301 and 3302; E.O. 10577, 3 CFR, 1954-1958 Comp., p. 218.

Office of Personnel Management.
Jeff T.H. Pon,
Director.

[FR Doc. 2018-09508 Filed 5-3-18; 8:45 am]

BILLING CODE 6325-39-P